DEPARTMENT OF ENERGY

Proposed Emergency Agency Information Collection

AGENCY: U.S. Department of Energy.

ACTION: Notice and request for comments.

SUMMARY: Pursuant to the Paperwork Reduction Act of 1995, the Department of Energy (DOE) invites public comment on a proposed emergency collection of information that DOE is developing for management of financial assistance grants funded under the American Recovery and Reinvestment Act of 2009. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before February 18, 2010. If you anticipate difficulty in submitting comments within that period, contact the person listed in ADDRESSES as soon as possible.

ADDRESSES: Written comments may be sent to: Matthew Grosso, U.S. Department of Energy, OE/Forrestal Building, 1000 Independence Ave., SW., Washington, DC 20585 or by fax at 202-586-5860, or by e-mail at matthew.grosso@hq.doe.gov and DOE Desk Officer, Office of Information and Regulatory Affairs, Office of Management and Budget, New Executive Office Building, Room 10102, 725 17th Street, NW., Washington, DC 20503.

FOR FURTHER INFORMATION CONTACT: Requests for additional information or copies of the information collection instrument and instructions should be directed to Matthew Grosso at matthew.grosso@hq.doe.gov.

SUPPLEMENTARY INFORMATION: This emergency information collection request contains: (1) OMB No.: New; (2) Information Collection Request Title: Electricity Delivery and Energy Reliability Recovery Act Smart Grid Grant Program Status Report; (3) Type of Review: Emergency; (4) Purpose: To collect information on the status of grantee activities, expenditures, and results, to ensure that program funds are being used appropriately, effectively and expeditiously (especially important for Recovery Act funds); (5) Annual Estimated Number of Respondents: 132; (6) Annual Estimated Number of Total Responses: 1,656; (7) Annual Estimated Number of Burden Hours: 3,312; (8) Annual Estimated Reporting and Recordkeeping Cost Burden: $621,000 for the first year, $138,000 each subsequent year.

Authority: Title V, Subtitle E of the Energy Independence and Security Act of 2007 (EISA; Pub. L. 110-140).

Issued in Washington, DC, on January 28, 2010.
Terri T. Lee,
Chief Operating Officer, Electricity Delivery and Energy Reliability.

[FR Doc. 2010-2422 Filed 2-3-10; 8:45 am]

BILLING CODE 6450-01-P